DEPARTMENT OF HEALTH AND HUMAN SERVICES

Centers for Disease Control and Prevention

Public Health Conference Support Cooperative Agreement Program for Human Immunodeficiency Virus Prevention

Announcement Type: New.

Funding Opportunity Number: 04039.

Catalog of Federal Domestic Assistance Number: 93.941.

Key Dates:

Letter of Intent (LOI) Deadline: For conferences between the dates of April 1, 2004 to September 30, 2004, submit LOI on or before January 19, 2004.

Application Deadline: March 3, 2004.

I. Funding Opportunity Description

Authority: This program is authorized under the Public Health Service Act, section 301(a), 42 U.S.C. 241(a), as amended and section 317(a), 42 U.S.C. 247b(a), as amended.

Purpose: The purpose of this program is to provide partial support for specific non-federal conferences in the areas of health promotion and disease prevention information/education programs. Conference support by CDC creates the appearance of CDC co-sponsorship; therefore, CDC will actively participate in the development and approval of those portions of the agenda supported by CDC funds. In addition, CDC reserves the right to approve or reject the content of the full agenda, press events, promotional materials (including press releases), speaker selection, and site selection. CDC funds will not be used for portions of meetings that are not approved. This program addresses the “Healthy People 2010” focus area of HIV, and the New Initiative: Advancing HIV Prevention.

Measurable outcomes of the program will be in alignment with one or more of the following performance goals for the National Center for HIV, STD and TB Prevention (NCHSTP): Strengthen the capacity of our HIV prevention partners nationwide to monitor the HIV epidemic, develop and implement effective HIV prevention interventions, and evaluate prevention programs.

Activities:

Awardee activities for this program are as follows: a. Manage all activities related to conference content (e.g., objectives, topics, session design, workshops, special exhibits, speakers, fees, agenda composition, printing). Many of these items may be developed in concert with CDC personnel assigned to support the conference.

b. Provide draft copies of the agenda, objectives, and proposed related activities to the CDC Project Official for review and comment. Submit a copy of the final agenda, objectives, and proposed related activities to the CDC Grants Management Office for approval.

c. Determine and manage all promotional activities (e.g., title, logo, announcements, mailers, press). CDC must review and approve the use of any materials with reference to CDC involvement or support.

d. Manage all registration processes with participants and registrants (e.g., travel, reservations, correspondence, conference materials and hand-outs, badges, and registration procedures).

e. Plan, negotiate, and manage conference site arrangements, including all audiovisual needs.

f. Develop the content and manage the activities of the conference.

g. If the proposed conference is or includes a satellite broadcast, recipient will:

(1) Provide individual, on-camera rehearsals for all presenters.

(2) Provide at least one full dress rehearsal involving the moderator, all presenters, equipment, visuals, and practice telephone calls at least one day before the actual broadcast and as close to the actual broadcast time as possible.

(3) Provide full scripting and Teleprompter use for the moderator and all presenters.

h. Collaborate with CDC staff in reporting and disseminating conference results, recommendations, and relevant HIV prevention information. This information must be made available to appropriate Federal, State, and local agencies, healthcare providers, HIV/AIDS prevention and service organizations, and the general public.

In a cooperative agreement, CDC staff is substantially involved in the program activities, above and beyond routine grant monitoring.

CDC Activities for this program are as follows:

a. Provide technical assistance through telephone calls, correspondence, and site visits in the areas of program agenda development, implementation, and priority setting related to the cooperative agreement.

b. Provide scientific collaboration for appropriate aspects of the program, including selection of speakers, pertinent scientific information on HIV, preventive measures, and program strategies for the prevention of HIV infection.

c. Review draft agendas. The Grants Management Officer will approve or disapprove the final agenda and proposed related activities prior to release of restricted funds.

d. Assist applicant in reporting and disseminating results, recommendations, and relevant HIV prevention information.

II. Award Information

Type of Award: Cooperative Agreement.

CDC involvement in this program is listed in the Activities Section above.

Fiscal Year Funds: 2004.

Approximate Total Funding: $112,000.

Approximate Number of Awards: Five.

Approximate Average Award: $20,000.

Floor of Award Range: $15,000.

Ceiling of Award Range: $25,000.

Anticipated Award Date: April 1, 2004.

Budget Period Length: Six months.

Project Period Length: Six months.

Contingency awards will be made allowing usage of only 10 percent of the total amount to be awarded until a final full agenda, promotional materials (i.e., brochures, Save-the-Date, etc.), and evaluation questions are approved by CDC. Funding will be provided to support costs associated with preparation of the agenda. The remainder of funds will be released only upon CDC approval of the final and full agenda. CDC reserves the right to terminate co-sponsorship at any time.

III. Eligibility Information

III.1. Eligible Applicants

Applications may be submitted by public and private nonprofit organizations and by governments and their agencies, such as:

• Public nonprofit organizations

• Private nonprofit organizations

• Universities

• Colleges

• Technical Schools

• Research institutions

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

A Bona Fide Agent is an agency/organization identified by the state as eligible to submit an application under the state eligibility in lieu of a state application. If you are applying as a bona fide agent of a state or local government, you must provide a letter from the state or local government as documentation of your status. Place this documentation behind the first page of your application form. Foreign organizations are not eligible to apply.

III.2. Cost Sharing or Matching

Recipient financial participation is required for this program in accordance with this Program Announcement. CDC will not fund more than 75 percent of the total cost of the conference. At least 25 percent of the cost for the conference must be supported with non-federal funds. This factor will be included as an evaluation criterion in the review of your application.

III.3. Other

If you request a funding amount greater than the ceiling of the award range, your application will be considered non-responsive and will not be entered into the review process. You will be notified that your application did not meet the submission requirements.

If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161-1. Forms are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI):

CDC requires that you send a LOI if you intend to apply for this program. Your LOI will be used as a pre-application mechanism. CDC will review and score your LOI. Only the high scoring LOIs will be invited to apply for funding. CDC will invite applicants to submit their full applications within 30 days after the LOI due date. Availability of funds may limit the number of applicants who receive an invitation to submit an application. Your LOI must be written in the following format:

• Maximum number of pages: Two

• Font size: 12-point unreduced

• Paper size: 8.5 by 11 inches

• Page margin size: One inch

• Printed only on one side of page

• Single-Spaced

• Written in plain language, avoid jargon

Your LOI must contain the following information:

a. Name of organization.

b. Mailing address.

c. Telephone and fax numbers.

d. E-mail address.

e. Title of the proposed conference.

f. Location of the proposed conference (city and state).

g. Conference dates.

h. Documented need for the conference.

i. Purpose of the conference.

j. Potential contribution to HIV/AIDS Prevention.

k. Intended audience (number and description of conference attendees).

l. Population(s) who that ultimately benefit from the information shared with conference attendees (population consists of persons at risk, i.e., women, men who have sex with men (MSM), injecting drug users and persons living with HIV).

m. The estimated total cost of the conference.

n. The percentage of the total cost (which must be 75 percent or less) being requested from CDC.

o. The relationship of the conference to CDC's Funding Preferences, which are listed in section “V.2 Review and Selection Process”.

p. Potential contribution toward the National HIV prevention goals based on the CDC HIV Prevention Strategic Plan:

1. Decrease new infections.

2. Increase knowledge of serostatus.

3. Increase linkage to prevention, care and treatment.

4. Strengthen monitoring, capacity and evaluation.

q. Potential contribution toward the New Initiative:

Advancing HIV Prevention (See Attachment)

1. Make voluntary testing a routine part of medical care.

2. Implement new models for diagnosing HIV infections.

3. Prevent new infections by working with persons diagnosed with HIV.

4. Further decrease perinatal HIV transmission.

Information on HIV prevention methods (or strategies) can include abstinence; monogamy, i.e., being faithful to a single sexual partner; or using condoms consistently and correctly. These approaches can avoid risk (abstinence) or effectively reduce risk for HIV Prevention (monogamy, consistent and correct condom use).

If applicable, current recipients of CDC HIV funding must provide the award number and title of the funded programs.

Note: No attachments, booklets, or other documents accompanying the LOI will be considered.

Application:

You must include a project narrative with your application forms. Your narrative must be submitted in the following format:

• Maximum number of pages: 12 pages. If your narrative exceeds the page limit, only the first pages which are within the page limit will be reviewed.

• Font size: 12-point unreduced.

• Paper size: 8.5 by 11 inches.

• Page margin size: One inch.

• Double-spaced.

• Printed only on one side of page.

• Held together only by rubber bands or metal clips; not bound in any other way.

• Written in plain language only. Do not use jargon or abbreviations.

• Number all pages.

• Include a complete index to the application and appendices.

Your narrative should address activities to be conducted over the entire project period, and must include the following items in the order listed:

a. A project summary cover sheet that includes:

1. Name of organization.

2. Name of conference.

3. Location of conference.

4. Date(s) of conference.

5. Target population(s) who will benefit from the information shared with conference attendees (e.g., youth, women, men who have sex with men (MSM), injecting drug users and persons living with HIV).

6. Intended audience (number and description of conference attendees).

7. Define conference objectives.

8. Dollar amount requested.

9. Total conference budget.

b. Biographical sketches and job descriptions of the individuals responsible for planning and coordinating the conference.

c. A budget narrative separately identifying and justifying line items to which the requested Federal funds would be applied.

d. A draft agenda for the proposed conference.

e. Award number and title of funded programs for current recipients of CDC HIV funding. Applicants must have not submitted the same proposal for review for funding to other parts of CDC.

Additional information may be included in the application appendices. The appendices will not be counted toward the narrative page limit.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

For conferences during the dates of April 1, 2004 to September 30, 2004.

LOI Deadline Date: January 19, 2004.

CDC requires that you send a LOI if you intend to apply for this program. Failure to submit a LOI precludes you from submitting an application.

Application Deadline Date: March 3, 2004.

Explanation of Deadlines: LOIs and Applications must be received in the CDC Procurement and Grants Office by 4 p.m. Eastern Time on the deadline date. If you send your LOI or application by the United States Postal Service or commercial delivery service, you must ensure that the carrier will be able to guarantee delivery of the application by the closing date and time. If CDC receives your LOI or application after closing due to: (1) carrier error, when the carrier accepted the package with a guarantee for delivery by the closing date and time, or (2) significant weather delays or natural disasters, you will be given the opportunity to submit documentation of the carriers guarantee. If the documentation verifies a carrier problem, CDC will consider the LOI or application as having been received by the deadline.

This program announcement is the definitive guide on LOI and application submission and address. It supersedes information provided in the application instructions. If your application does not meet the deadline above, it will not be eligible for review, and will be discarded. You will be notified that you did not meet the submission requirements.

CDC will not notify you upon receipt of your LOI and your application. If you have a question about the receipt of your LOI or application, first contact your courier. If you still have a question, contact the PGO-TIM staff at: (770) 488-2700. Before calling, please wait two to three days after the application deadline. This will allow time for the LOIs and applications to be processed and logged.

IV.4. Intergovernmental Review of Applications

Executive Order 12372 does not apply to this program.

IV.5. Funding Restrictions

Funding restrictions, which must be taken into account while writing your budget are as follows:

1. CDC funds will not be used for non-approved portions of meetings. CDC funds may be used for only those parts of the conference specifically supported by CDC as listed on the Notice of Cooperative Agreement Award. CDC funds may be used for direct costs, such as

a. Salaries.

b. Speaker fees.

c. Rental of conference-related equipment.

d. Registration fees.

e. Scholarships.

f. Transportation costs (not to exceed economy class fares) for non-federal employees.

g. Mileage for local participants.

2. CDC funds may not be used

a. To purchase equipment.

b. To pay honoraria.

c. For organizational dues.

d. To support entertainment.

e. For personal expenses not related to the conference.

f. For travel costs or payment to a Federal employee.

g. For per diem and expenses for local participants.

h. To reimburse indirect costs.

i. To purchase novelty items (e.g., bags, T-shirts, hats, pens) distributed at meetings.

j. To purchase food or drinks.

3. CDC will not fund a conference after it has taken place.

Contingency awards will be made allowing usage of only 10 percent of the total amount to be awarded until a final full agenda, promotional materials (i.e., brochures, Save-the-Date, etc.), and evaluation questions are approved by CDC. Funding will be provided to support costs associated with preparation of the agenda. The remainder of funds will be released only upon CDC approval of the final and full agenda. CDC reserves the right to terminate co-sponsorship at any time.

Guidance for completing your budget can be found on the CDC Web site, at the following Internet address: http://www.cdc.gov/od/pgo/funding/budgetguide.htm.

IV.6. Other Submission Requirements

LOI Submission Address: Submit the original and two hard copies of your LOI by express mail or delivery service to: Technical Information Management—PA04039, Procurement and Grants Office, Centers for Disease Control and Prevention, 2920 Brandywine Rd., Atlanta, GA 30341-4146.

LOIs may not be submitted electronically.

Application Submission Address: Submit the original and two hard copies of your application by mail or express delivery service to: Technical Information Management—PA04039, CDC Procurement and Grants Office, 2920 Brandywine Road, Atlanta, GA 30341.

Applications may not be submitted electronically at this time.

V. Application Review Information

V.1. Criteria

Letter of Intent Criteria:

The Letter of Intent will be evaluated against the following criteria:

1. The extent to which the LOI content requirements are complete. Does the LOI address all the content requirements listed in Section IV: “Application and Submission Information?” LOI must also address one or more of the elements listed in Section V. “Application Review Information, Review and Selection Process.” (20 points)

2. The extent to which the conference overall objectives are reliable, reasonable, measurable and specific. (15 points)

3. The extent to which the applicant demonstrates the need for the conference. (15 points)

4. The extent to which high risk populations will ultimately benefit from the conference. (15 points)

5. The extent to which the applicant discusses the potential contribution to HIV/AIDS prevention. (10 points)

6. The extent to which the conference will have potential contribution toward the New Initiative: Advancing HIV Prevention. (10 points)

7. The extent to which the conference will have potential contribution toward the National HIV Prevention Goals based on the CDC HIV Prevention Strategic Plan. (10 points)

8. The extent to which the overall format and organization of the LOI meets the format listed in the “Content and Form of Submission” Section of the Program Announcement. (5 points)

Application Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Note: Use the following headings on your application narrative.

a. Proposed Program and Technical Approach (30 points):

1. The extent to which the proposed conference description fits one of the Funding Preferences listed in “Section V. Application Review Information, Review and Section Process”.

2. The degree to which the conference objectives are specific, measurable, realistic, and time-phased. The extent to which evaluation of the conference assesses increased knowledge and attitudes of the conference participants.

3. The relevance and effectiveness of the proposed agenda in addressing the conference topic(s).

4. The degree to which conference activities relate to the prevention of HIV.

b. Applicant Capability and Experience (25 points):

1. The adequacy of existing resources to administer the program for the proposed conference.

2. The adequacy of existing and proposed facilities for conducting conference activities.

3. The degree to which the applicant has established relationships with related government agencies, community planning groups, and related community groups. Include letters of support (maximum of five letters) from such agencies, addressing related applicant's capability and experience. Letters of support must explain how the agency will work with the applicant to plan the proposed conference. Letters that do not pertain directly to the proposed conference, and specify how the agency will work with the applicant, will not be considered.

c. Qualifications of Program Personnel (25 points):

1. The qualifications and experience of the principal staff person, and his or her ability to devote adequate time to provide effective leadership.

2. Program personnel's ability to accomplish conference objectives.

3. Key personnel's (including associate staff persons, discussion leaders, and speakers) education and expertise relative to the conference objectives.

d. Purpose of the Conference (20 points):

1. Extent to which the applicant shows that participants and presenters will have the opportunity to interact during the conference, share information on successful and unsuccessful program experiences, and develop collaborative working relationships.

2. The extent to which the applicant shows the need for the conference.

3. Does the applicant describe non-federal resources for funding at least 25 percent of the cost for the conference?

e. Budget Justification and Adequacy of the Facility (reviewed, but not scored):

The proposed budget will be evaluated on the basis of its reasonableness, concise and clear justification, consistency with the intended use of cooperative agreement funds, and the extent to which the applicant documents financial support from other sources.

V.2. Review and Selection Process

Applications will be reviewed for completeness by the Procurement and Grants Office (PGO) staff, and for responsiveness by NCHSTP. Incomplete applications or applications that are non-responsive to the eligibility criteria will not advance through the review process. Applicants will be notified that their application did not meet submission requirements.

An objective review panel will evaluate your LOI and your application according to the criteria listed in the “V.1. Criteria” section above.

In addition, the following factors may affect the funding decision:

Preferences for funding may be given for ensuring a balance of funded agencies that:

1. Serve populations in special settings (e.g., correctional institutions, shelters for runaway youth).

2. Target under-served geographic areas with high-risk populations (e.g., migrant and rural populations).

3. The United States regions and territories are represented.

4. Target people of color (especially African Americans and Hispanic women of color).

5. Provide support of comprehensive primary and secondary prevention programs for persons living with HIV.

No preference will be given to organizations that have received CDC funding in past years.

V.3. Anticipated Announcement Award Date

April 1, 2004

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will be notified by mail of the results of the application review.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-5—HIV Program Review Panel Requirements

• AR-8—Public Health System Reporting Requirements

• AR-9—Paperwork Reduction Act Requirements

• AR-10—Smoke-Free Workplace Requirements

• AR-11—Healthy People 2010

• AR-12—Lobbying Restrictions

• AR-15—Proof of Non-Profit Status

• AR-20—Conference Support

Additional information on these requirements can be found on the CDC Web site at the following Internet address: http://www.cdc.gov/od/pgo/funding/ARs.htm.

VI.3. Reporting Requirements

You must provide CDC with an original, plus two hard copies of the following reports:

a. Interim performance report, no less than 90 days before the end of the budget period. The performance report must include:

(1) The cooperative agreement number.

(2) Title of the conference.

(3) Name of the principal investigator, program director or coordinator.

(4) Name of the organization that conducted the conference.

(5) A copy of the agenda.

(6) A list of individuals who participated in the formally planned sessions of the meeting.

(7) A summary of the meeting results, including a discussion of how the meeting reached the stated conference objectives.

(8) The Program Review Panel's report that all written materials have been reviewed as required.

With the prior approval of CDC, copies of proceedings or publications resulting from the conference may be substituted for the performance report, provided they contain the information requested in items one through eight above.

b. Final financial and performance reports, no more than 90 days after the end of the project period.

The reports must be sent to the Grants Management Specialist listed in “Agency Contacts” section of this announcement.

VII. Agency Contacts

For general questions about this announcement, contact: Technical Information Management Section, CDC Procurement and Grants Office, 2920 Brandywine Road, Atlanta, GA 30341, Telephone: (770) 488-2700.

For program technical assistance, contact: Victoria E. Saho, Project Officer, Technical Information and Communications Branch, Division of HIV/AIDS Prevention—Intervention Research and Support, National Center for HIV, STD and TB Prevention, 1600 Clifton Road, NE, M/S E49, Atlanta, GA 30333, Telephone: (404) 639-5211, E-mail: vsaho@cdc.gov.

For business management and budget assistance, contact: Carlos Smiley, Grants Management Specialist, CDC Procurement and Grants Office, 2920 Brandywine Road, Room 3000, Atlanta, GA 30341-4146, Telephone: (770) 488-2722, E-mail: csmiley1@cdc.gov.

For business management and budget assistance in the territories contact: Cynthia Montgomery, Contract Specialist, CDC Procurement and Grants Office, 2920 Brandywine Rd., Atlanta, GA 30341-4146, Telephone: (770) 488-2632, E-mail: caf5@cdc.gov.

Dated: December 18, 2003.
Edward Schultz,
Acting Director, Procurement and Grants Office, Centers for Disease Control and Prevention.

[FR Doc. 03-31830 Filed 12-22-03; 10:26 am]

BILLING CODE 4163-18-P